ENVIRONMENTAL PROTECTION AGENCY

[EPA-HQ-OPPT-2018-0407; FRL-9989-60]

Certain New Chemical Substances; Receipt and Status Information for August 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA section 5, including notice of receipt of a Premanufacture Notice (PMN), Significant New Use Notice (SNUN) or Microbial Commercial Activity Notice (MCAN), including an amended notice or test information; an exemption application (Biotech exemption); an application for a Test Marketing Exemption (TME), both pending and/or concluded; a Notice of Commencement (NOC) of manufacture (including import) for new chemical substances; and a periodic status report on new chemical substances that are currently under EPA review or have recently concluded review. This document covers the period from August 1, 2018 to August 31, 2018. This document also makes corrections to previously published Certain New Chemical Substances; Receipt and Status Information documents.

DATES: Comments identified by the specific case number provided in this document must be received on or before April 11, 2019.

ADDRESSES: Submit your comments, identified by docket identification (ID) number EPA-HQ-OPPT-2018-0407, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW. Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from August 1, 2018 to August 31, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the TSCA, 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice that indicates whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number. Submissions which are amendments to previous submissions will have a case number followed by the letter “A” (e.g. P-18-1234A). The version column designates submissions in sequence as “1”, “2”, “3”, etc. Note that in some cases, an initial submission is not numbered as version 1; this is because earlier versions were rejected as incomplete or invalid submissions. Note also that future versions of the following tables may adjust slightly as the Agency works to automate population of the data in the tables.

Table I—PMN/SNUN/MCANs Received From 8/1/2018 to 8/31/2018
Case No. | Version | Received date | Manufacturer | Use | Chemical substance
J-18-0041 | 1 | 08/09/2018 | FREDsense Technologies USA, LLC | (S) To detect arsenic in small water samples | (G) Escherichia coli C003.
J-18-0041A | 2 | 08/29/2018 | FREDsense Technologies USA, LLC | (S) To detect arsenic in small water samples | (G) Escherichia coli C003.
J-18-0042 | 1 | 08/14/2018 | CBI | (G) Ethanol production | (G) Biofuel producing saccharomyces cerevisiae modified, genetically stable.
J-18-0043 | 1 | 08/14/2018 | CBI | (G) Ethanol production | (G) Biofuel producing saccharomyces cerevisiae modified, genetically stable.
J-18-0044 | 1 | 08/30/2018 | NIST | (S) Used as a qualitative and quantitative | (S)Saccharomyces Cerevisiae NEO95.
P-16-0377A | 7 | 08/22/2018 | CBI | (G) Film component | (G) Polyester polyol.
P-16-0378A | 6 | 08/22/2018 | CBI | (G) Film component | (G) Polyester polyol.
P-16-0393A | 3 | 08/08/2018 | CBI | (S) Plasticizer for use with polymers | (G) Di-substituted benzenedicarboxylic acid ester.
P-16-0580A | 2 | 08/09/2018 | Chemtura Corporation | (G) Synthetic aircraft engine lubricant for contained use Industrial lubricant | (G) Trimethylolpropane ester of mixed linear and branched carboxylic acids.
P-16-0591A | 9 | 08/08/2018 | Chromatic Technologies, Inc | (G) Component of printing ink (G) Component of colorants | (G) Alkyl bis-phenol.
P-16-0600A | 4 | 08/02/2018 | CBI | (G) (see attachment) The organo-titanate substance serves as the negative electrolyte for a flow battery. A flow battery is a rechargeable energy storage device comprising a negative electrolyte, a positive electrolyte, an electrochemical cell stack, and a balance of plant. During operation, the positive and negative electrolytes flow through the electrochemical cell stack in two separate fluidic loops connected by an ionically conductive separator. The electrolytes are continuously recirculated between the storage tanks and the cell stack while the cell stack converts chemical energy to electric power during discharge cycles and electric power into stored chemical energy during charge cycles. Flow batteries are rechargeable devices and the electrolytes will cycle between a charged and a discharge state many times throughout the life of the product. These devices are intended for use in commercial, industrial and utility applications where they will deliver mega-watts of power for 4-12 hours | (G) Organo-titanate.
P-17-0145A | 2 | 08/06/2018 | CBI | (G) Intermediate | (G) Silane ammonium salt.
P-17-0184A | 3 | 08/09/2018 | Colonial Chemical, Inc | (S) Liquid Laundry Detergent | (S) 1-propanaminium, 2-hydroxy-n, n-dimethyl-n-[3-[(1-oxooctyl-amino]propyl]-3-sulfo-, inner salt.
P-17-0199A | 4 | 08/03/2018 | CBI | (S) Binder in Sealant | (G) Oxyalkylene urethane polyolefin.
P-18-0017A | 3 | 08/08/2018 | Allnex USA, Inc | (S) Corrosion protection | (G) Substituted carbomonocycle, polymer with substituted polyalkylene glycol and substituted heteromonocycle.
P-18-0020A | 3 | 08/12/2018 | Myriant Corporation | (G) Industrial Coating (G) Composites | (S) Butanediolic acid, polyol with 2-ethyl-2-(hydroxymethyl)-1,3-propanediol, 2,5-furandione and 1,3-propanediol, 3a,4,5,6,7,7a-hexahydro-4,7-methano-1h-inden-5(or 6)-yl ester.
P-18-0042A | 8 | 08/01/2018 | Myriant Corporation | (G) Industrial Coating (G) Industrial Coating | (S) 2,5-furandione, polymer with 2-ethyl-2-(hydroxymethyl)-1,3-propanediol, 3a,4,5,6,7,7a-hexahydro-4,7-methano-1h-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | 9 | 08/07/2018 | Myriant Corporation | (G) Industrial Coating | (S) 2,5-furandione, polymer with 2-ethyl-2-(hydroxymethyl)-1,3-propanediol, 3a,4,5,6,7,7a-hexahydro-4,7-methano-1h-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0049A | 6 | 08/27/2018 | Solvay Fluorides, LLC | (G) Coating component/processing aid | (G) Mixed metal halide.
P-18-0073A | 4 | 08/10/2018 | Earth Science Laboratories | (G) Non-Pesticide Agricultural Use Chemical (S) Chlorine stabilizer (S) FIFRA Inert ingredient (S) Anti-scalant | (S) Sulfuric acid, ammonium salt (1:?).
P-18-0120A | 2 | 08/20/2018 | Designer Molecules, Inc | (G) Adhesive component | (S) 1h-pyrrole-2,5-dione, 1,1′-c36-alkylenebis-.
P-18-0148A | 2 | 08/29/2018 | 3M Company | (S) Roofing granule coating | (G) Kaolin, reaction products with calcined kaolin, hetero substituted alkyl acrylate polymer, and sodium silicate.
P-18-0149A | 2 | 08/29/2018 | 3M Company | (S) Roofing granule coating | (G) Kaolin, calcined, reaction products with hetero substituted alkyl acrylate polymer and sodium silicate.
P-18-0152A | 3 | 08/07/2018 | CBI | (G) Intermediate for use in manufacturing | (G) Hydrolyzed functionalized di-amino silanol polymer.
P-18-0154A | 5 | 08/06/2018 | CBI | (G) Crosslinking agent for coatings | (G) Isocyanic acid, polyalkylenepolycycloalkylene ester, 2-alkoxy alkanol and 1-alkoxy alkanol and alkylene diol blocked.
P-18-0168A | 3 | 08/17/2018 | CBI | (G) Color additive | (G) Alkoxylated triaryl methane.
P-18-0175A | 4 | 08/09/2018 | Hexion, Inc | (S) Non-food contact can coating (S) Food can coating | (S) Formaldehyde, polymer with 4-(1,1-dimethylethyl)phenol and phenol, bu ether.
P-18-0179A | 3 | 08/20/2018 | CBI | (G) Adhesive | (G) Phenol, polymer with formaldehyde and phenolic resin, sodium salt.
P-18-0180A | 3 | 08/20/2018 | CBI | (G) Adhesive | (G) Phenol, polymer with formaldehyde and phenolic resin, potassium salt.
P-18-0181A | 3 | 08/20/2018 | CBI | (G) Adhesive | (G) Phenol, polymer with formaldehyde and phenolic resin, potassium sodium salt.
P-18-0226A | 4 | 08/08/2018 | CBI | (G) Anti-agglomerate | (G) Tri alkyl, mono alkoxy, fatty acid ester, ammonium salt.
P-18-0228 | 2 | 08/30/2018 | CBI | (G) Tackifier | (G) Branched alkenyl acid, alkyl ester, homopolymer.
P-18-0229 | 2 | 08/30/2018 | CBI | (G) Tackifier | (G) Modified branched alkenyl acid, alkyl ester, homopolymer.
P-18-0237A | 4 | 08/24/2018 | CBI | (G) Use in print resins | (G) Alkanediol, polymer with 5-isocyanato-1-(isocyanatomethyl)-1,3,3-trimethylcyclohexane, alkylaminoalkyl methacrylate-, and dialkylheteromonocycle-blocked.
P-18-0241A | 3 | 08/21/2018 | CBI | (G) Necessary precursor for automotive coating | (G) 2-propenoic acid, 2-methyl-, methyl ester, polymer with ethenylbenzene, ethyl 2-propenoate, 2-oxiranylmethyl 2-methyl-2-propenoate and 1,2-propanediol mono(2-methyl-2-propenoate), reaction products with diethanolamine, polymers with substituted-alkyl acrylate, formates (salts).
P-18-0241A | 4 | 08/27/2018 | CBI | (G) Additive for automotive coating | (G) 2-propenoic acid, 2-methyl-, methyl ester, polymer with ethenylbenzene, ethyl 2-propenoate, 2-oxiranylmethyl 2-methyl-2-propenoate and 1,2-propanediol mono(2-methyl-2-propenoate), reaction products with diethanolamine, polymers with substituted-alkyl acrylate, formates (salts).
P-18-0242A | 3 | 08/27/2018 | CBI | (S) Withdrawn | (S) Substance withdrawn.
P-18-0243A | 3 | 08/27/2018 | CBI | (S) Withdrawn | (S) Withdrawn.
P-18-0244A | 3 | 08/21/2018 | CBI | (G) Necessary precursor to automotive coating | (G) 2-propenoic acid, 2-methyl, methyl ester, polymer with ethenylbenzene, ethyl 2-propenoate, 2-oxiranylmethyl 2-methyl-2-propenoate and 1,2-propanediol mono(2-methyl-2-propenoate), reaction products with diethanolamine, polymers with substituted-alkyl methacrylate, formates (salts).
P-18-0244A | 4 | 08/27/2018 | CBI | (G) Additive for automotive coating | (G) 2-propenoic acid, 2-methyl, methyl ester, polymer with ethenylbenzene, ethyl 2-propenoate, 2-oxiranylmethyl 2-methyl-2-propenoate and 1,2-propanediol mono(2-methyl-2-propenoate), reaction products with diethanolamine, polymers with substituted-alkyl methacrylate, formates (salts).
P-18-0245A | 3 | 08/20/2018 | CBI | (G) Necessary precursor for automotive coating | (G) 2-propenoic acid, 2-methyl-, methyl ester, polymer with ethenylbenzene, ethyl 2-propenoate, 2-oxiranylmethyl 2-methyl-2-propenoate, and 1,2-propanediol mono-2-propenoate, reaction products with diethanolamine, polymers with alkylene glycol monoacrylate, formates (salts).
P-18-0245A | 4 | 08/27/2018 | CBI | (G) Additive for automotive coating | (G) 2-propenoic acid, 2-methyl-, methyl ester, polymer with ethenylbenzene, ethyl 2-propenoate, 2-oxiranylmethyl 2-methyl-2-propenoate, and 1,2-propanediol mono(2-methyl-2-propenoate), reaction products with diethanolamine, polymers with alkylene glycol monoacrylate, formates (salts).
P-18-0246A | 3 | 08/27/2018 | CBI | (S) Withdrawn | (S) Withdrawn.
P-18-0260A | 2 | 08/10/2018 | Allnex USA, Inc | (S) Binder for wood stains | (G) Fatty acids, polymers with alkanoic acid and substituted carbomonocycle, peroxide-initiated, polymers with alkanoic acid esters and substituted carbomonocycle, ammonium salts.
P-18-0270 | 1 | 08/06/2018 | Specialty Elements, LLC | (S) Coalescent for industrial water-based coatings (S) Coupling agent for resins and dyes in water-based printing inks (S) Primary solvent in solvent-based silk screen printing inks (S) Other uses include a co- solvent for agricultural pesticides, and may be used in the production of a wide variety of products and commodities such as polyester resins, engine coolants, latex paints, heat transfer fluids and deicing compounds, lubricants, plasticizers and cement grinding additives (S) Active co-solvent for solvent-based coatings (S) Coupling agent and solvent in household and industrial cleaners, rust removers, hard surface cleaners, and disinfectants | (G) Ethanol, 2-butoxy-, 1,1′-ester.
P-18-0271 | 1 | 08/06/2018 | Specialty Elements, LLC | (S) Film forming coalescent for automotive OEM coatings (electrodeposition primers) (S) Film forming coalescent for marine and wood coatings (S) Film forming coalescent for can and coil coatings (S) Film forming coalescent for transportation coatings (S) Other uses include Graphic Arts—Printing Inks (Lithographic and Letterpress oil-based inks) Oil Field Chemical—Drilling Muds/Frothing Agent/Ore Flotation, Reactive Intermediate—Ester Derivatives for Plasticizers (S) Film forming coalescent for industrial wood coatings (S) Film forming coalescent for industrial maintenance coatings (S) Film forming coalescent for floor polishes (S) Film forming coalescent for architectural coatings | (G) 2-propanol, 1-butoxy-, 2,2′-ester.
P-18-0272 | 1 | 08/07/2018 | CBI | (G) Polymer composite additive | (G) Metal, alkylcarboxylate oxo complexes.
P-18-0273 | 2 | 08/09/2018 | CBI | (G) Plasticizer/softener in PVC manufacturing | (S) 1,4-cyclohexanedicarboxylic acid, 1,4-bis(2-ethylhexyl) ester.
P-18-0274 | 3 | 08/21/2018 | CBI | (S) Chemical intermediate (G) Additive | (G) Heterocycle fluoroalkyl sulfonyl.
P-18-0275 | 1 | 08/10/2018 | CBI | (G) Polymer additive (G) Polymer additive | (G) Methanone phenylene fluoroalkyl sulfonyl heterocycle.
P-18-0276 | 1 | 08/15/2018 | Nisso America, Inc | (S) Developer for thermal paper | (S) Benzenesulfonamide, n-[2-[[(phenylamino)carbonyl]amino]phenyl]-.
P-18-0277 | 2 | 08/28/2018 | CBI | (G) Adhesive | (G) Poly[2-(dimethylamino)ethyl acrylate chloride salt, vinyl acetate, methacrylic acid and alkyl acrylates].
P-18-0278 | 2 | 08/16/2018 | DSM Engineering Plastics | (S) Resin for molded automotive parts and electrical and electronic equipment | (G) Isophthalic acid, polymer with terephthalic acid and c4 and c6 dialkyl amines.
P-18-0279 | 1 | 08/16/2018 | Allnex USA, Inc | (S) UV Curable Coating Resin | (G) Substituted heteromonocycle, polymer with substituted alkanediol and diisocyanate substituted carbomonocyle, alkylene glycol acrylate-blocked.
P-18-0280 | 1 | 08/17/2018 | Evonik Corporation | (S) Base polymer for miscellaneous adhesive and sealants (S) Base polymer for use in parquet adhesive (S) Base polymer for liquid membranes | (S) Oxirane, 2-methyl-, polymer with ¿-hydro-¿-hydroxypoly[oxy(methyl-1,2-ethanediyl)], 5-isocyanato-1-(isocyanatomethyl)-1,3,3-trimethylcyclohexane and 2-[[3-(triethoxysilyl)propoxy]methyl]oxirane, propylene oxide-2-[[3-(triethoxysilyl)propoxy]methyl] oxirane polymer monoether with polypropylene glycol mono-bu ether-blocked.
P-18-0281 | 1 | 08/17/2018 | CBI | (G) Electrolyte additive | (G) Cyclic sulfate.
P-18-0282 | 2 | 08/24/2018 | Ashland, Inc | (G) Adhesive | (G) Fatty acid ester, polyether, diisocyanate polymer.
P-18-0282A | 3 | 08/29/2018 | Ashland, Inc | (G) Adhesive | (G) Fatty acid ester, polyether, diisocyanate polymer.
P-18-0283 | 1 | 08/26/2018 | CBI | (G) Open, non-dispersive use | (G) Hydroxy alkanoic acid, compds. with aminoalkoxyalcohol-epoxy polymer-alkanolamine reaction products.
P-18-0284 | 1 | 08/27/2018 | Wild River Consulting Group, LLC | (G) Polymer composite additive | (G) Inorganic acid, reaction products with alkyl alcohol.
P-18-0285 | 2 | 08/28/2018 | Itaconix Corp | (S) Odor neutralization for air care (S) Odor neutralization for pet litter and cleaning/deodorizing hard surfaces, fabrics, skin and hair (S) Odor neutralization for waste processing and solid waste management in paper, oil, gas, mining, agriculture, food and municipal industries | (S) Butanedioic acid, 2-methylene-, polymer with 2-methyl-2-[(1-oxo-2-propen-1-yl)amino]-1-propanesulfonic acid, sodium zinc salt.
P-18-0286 | 1 | 08/27/2018 | Halocarbon Products Corp | (G) Heat transfer fluid (G) Additive contained/sealed in low voltage electronics (S) Solvent in vapor degreasing/vapor cleaning | (S) Propane, 1,1,1,3,3,3-hexafluoro-2-methoxy-.
P-18-0287 | 3 | 08/27/2018 | CBI | (G) XX plans to produce “tires, wastes, pyrolyzed, condensate oil fraction” (hereafter referred to as syn oil) (CASRN: 1312024-02-4) from scrap tire materials (G) XX plans to produce “tires, wastes, pyrolyzed, condensate oil fraction” (hereafter referred to as syn oil) (CASRN: 1312024-02-4) from scrap tire materials (G) XX plans to produce “tires, wastes, pyrolyzed, condensate oil fraction” (hereafter referred to as syn oil) (CASRN: 1312024-02-4) from scrap tire materials | (G) Synthetic oil from tires.
P-18-0288 | 1 | 08/27/2018 | Ungerer and Company | (S) Degreasing solvent | (G) Alkyl carbobicycle, manuf. of, byproducts from, isomerized.
P-18-0291 | 1 | 08/29/2018 | Pulcra Chemicals, LLC | (S) The PMN substance will be imported as part of an aqueous emulsion containing about 10 to 25 percent PMN substance with lubricant oils, nonionic surfactants and anionic surfactants. The emulsion will be used in the fat liquoring stage in the production of leather | (S) Vegetable oil, sulfonated, sodium salts.
P-18-0292 | 1 | 08/29/2018 | CBI | (G) Use in print resins | (G) Alkanediol, polymer with 5-isocyanato-1-(isocyanatomethyl)-1,3,3-trimethylcyclohexane, alkylaminoalkyl methacrylate-blocked.
P-18-0293 | 1 | 08/30/2018 | CBI | (S) Monomer for use in formulated industrial coatings (S) Monomer for use in emulsion polymers (S) Monomer for use in formulated industrial adhesives | (S) Propanedioic acid, 2-methylene-, 1,3-dihexyl ester.
P-18-0294 | 1 | 08/30/2018 | CBI | (S) Monomer for use in formulated industrial coatings (S) Monomer for use in emulsion polymers (S) Monomer for use in formulated industrial adhesives | (S) Propanedioic acid, 2-methylene-, 1,3-dicyclohexyl ester.
P-18-0295 | 1 | 08/30/2018 | CBI | (S) Use as a precursor in the manufacture of cleaning products (S) Use as an ingredient in the manufacture of plastic products | (S) 1,3-butanediol, (3R)-.
P-18-0296 | 1 | 08/30/2018 | CBI | (G) Emulsifier additive | (G) Saturated and unsaturated alcohol ethers with polyalkylene glycol monoalkyl ether.
SN-17-0008A | 2 | 08/24/2018 | CBI | (G) Intermediate | (G) Chlorofluorocarbon.
SN-17-0009A | 2 | 08/24/2018 | CBI | (G) Intermediate | (G) Chlorofluorocarbon.
SN-18-0005 | 1 | 08/16/2018 | CBI | (G) Monomer for industrial coating, ink and adhesives | (S) Butanoic acid, 3-mercapto-, 1,1′-[2-(hydroxymethyl)-2-[(3-mercapto-1-oxobutoxy)methyl]-1,3-propanediyl] ester]; (S) Butanoic acid, 3-mercapto-,1,1′-[2,2-bis[(3-mercapto-1-oxobutoxy)methyl]-1,3-propanediyl] ester.

In Table II. of this unit, EPA provides the following information (to the extent that such information is not claimed as CBI) on the NOCs received by EPA during this period: The EPA case number assigned to the NOC including whether the submission was an initial or amended submission, the date the NOC was received by EPA, the date of commencement provided by the submitter in the NOC, a notation of the type of amendment (e.g., amendment to generic name, specific name, technical contact, etc.) and chemical substance identity.

Table II—NOCs Received From 8/1/2018 to 8/31/2018
Case No. | Received date | Commencement date | If amendment, type of amendment | Chemical substance
P-14-0269A | 08/21/2018 | 06/09/2014 | Chemical CBI claim withdrawn | (S) Methanone, bis(4-fluorophenyl)-, polymer with 1,4-benzenediol and [1,1′—biphenyl]-4,4′-diol.
P-14-0353 | 08/10/2018 | 07/28/2018 |  | (S) Hexanedioic acid, polymer with 1,4-butanediol, 3-hydroxy-2-(hydroxymethyl)-2-methylpropanoic acid and 1,1′-methylenebis[4-isocyanatocyclohexane], compd. with n,n-diethylethanamine.
P-14-0473 | 08/29/2018 | 08/26/2018 |  | (G) Alkylpolycarboxylic acid, derivative, tris(fluorinatedalkoxy)alkyl ester salt.
P-16-0403 | 08/20/2018 | 07/24/2018 |  | (G) Heteropolycyclic carboxylic acid, polymer with 2-ethyl-2-(hydroxymethyl)-1,3-propanediol and 4-substitutedbenzene, substituted carbomonocycle and alkyl-substituted carbomonocycle-blocked.
P-16-0462 | 08/22/2018 | 07/26/2018 |  | (G) Silane-treated aluminosilicate.
P-16-0508 | 08/28/2018 | 08/21/2018 |  | (G) Terephthalic acid and alcohol ester polymer hydroxy glycol and 2-ethylhexyl alcohol.
P-17-0029 | 08/08/2018 | 08/08/2018 |  | (G) Substituted carbomonocycle, polymer with (aminoalkyl)-alkanediamine, (haloalkyl)oxirane, dialkyl-alkanediamine and alkyl-alkanamine, reaction products with dialkanolamine and alkyl)oxy]alkyl]oxirane.
P-17-0249 | 08/29/2018 | 08/02/2018 |  | (G) Amine- and hydroxy-functional acrylic polymer, neutralized.
P-18-0047 | 08/13/2018 | 08/09/2018 |  | (S) 1,2-ethanediol, 1,2-dibenzoate.
P-18-0130 | 08/28/2018 | 08/22/2018 |  | (G) Substituted alkanediol, polymer with heteromonocycles, alkenoate, metal complexes.

In Table III. of this unit, EPA provides the following information (to the extent such information is not subject to a CBI claim) on the test information received by EPA during this time period: The EPA case number assigned to the test information; the date the test information was received by EPA, the type of test information submitted, and chemical substance identity.

Table III—Test Information Received From 8/1/2018 to 8/31/2018
Case No. | Received date | Type of test information | Chemical substance
P-16-0543 | 8/1/2018 | Industrial Hygiene Exposure Assessment Report | (G) halogenophosphoric acid metal salt.
P-18-0007 | 8/2/2018 | Assessment of Toxic Effects on Daphnia magna Using the 48 h Acute Immobilisation Test (OECD 202), Assessment of the Ready Biodegradability of CBI with the Closed Bottle Test (OECD 301 D) | (S) glycerides, soya mono- and di-, epoxidized, acetates.
P-16-0093 | 8/3/2018 | Bhas-42 Initiator and Promoter Cell Transformation Assay (OECD 231), Evaluation of Genotoxicity and Carcinogenicity of P-16-0093, Scientific Opinion on the safety assessment of carvone, considering all sources of exposure | (S) 2-cyclohexen-1-one, 2-methyl-5-propyl-.
P-16-0404 | 8/3/2018 | Expert Statement on PMN, Acute Immobilization Test to Daphnia magna, Semi-static, 48 hours (OECD 202), Alga Growth Inhibition Test with Pseudokirchneriella subcapitata, 96 hours (OECD 201) | (G) alkyl ester, 2-({4-[2-(trisubstituted phenyl)azo]-5-acetamido-2-substitutedphenyl}(substituted alkoxy)amino).
SN-17-0011 | 8/3/2018 | Rat Inhalation Two-Generation Study (OECD 416) | (G) polyfluorohydrocarbon.
P-15-0583 | 8/6/2018 | A dietary exposure bioaccumulation test with the bluegill (Lepomis macrochirus) | (G) butanedioic acid, alkyl amine, dimethylbutyl ester.
P-16-0405 | 8/7/2018 | Expert Statement on[CBI], EPI Summary, PBT Profiler Results, Sediment-Water Chironomid Toxicity Test using Spiked Sediment (OECD 233) | (G) alkyl ester, 2-({5-acetamido-2-alkoxy-4-[2-(substituted-2,1-benzothiazol-3-yl)azo]pheny]}(disubstituted)amino).
P-17-0253 | 8/8/2018 | An Acute Inhalation Toxicity Study of CBI in Rats (OECD 403) | (G) oxirane, 2-methyl-, polymer with oxirane, methyl 2-(substituted carbomonocycle isoquinolin-2(3H)-yl) propyl ether.
P-18-0124 | 8/10/2018 | MnO2 Area Air Sample Reduction Analysis Summary | (G) alkali nickel oxide.
P-16-0408 | 8/15/2018 | Expert Statement on CBI, EPI Summary, PBT Profiler Results, Sediment-Water Chironomid Toxicity Test using Spiked Sediment (OECD 233) | (G) 3-pyridinecarbonitrile, 1,2-dihydro-trisubstituted-5-[2-(disubstituted phenyl)azo]-2-oxo.
P-16-0449 | 8/22/2018 | 100 Human Subject Repeat Insult Patch Test Skin Irritation/Sensitization evaluation (Occlusive Patch) | (S) 2,7-decadienal, (2E,7Z)-.
P-16-0462 | 8/23/2018 | SEFA Group Metals Report | (G) silane-treated aluminosilicate.
P-16-0543 | 8/28/2018 | Industrial Hygiene Exposure Assessment Report | (G) halogenophosphoric acid metal salt.
P-16-0446 | 8/28/2018 | Duroxyn® EF 2410w/40WA Liquid Coating Resins: Acute Inhalation Toxicity Study (Nose-only) in the Rat (OECD 403) | (G) fatty acids, reaction products with alkylamine, polymers with substituted carbomonocycle, substituted alkylamines, heteromonocycle and substituted alkanoate, lactates (salts).
P-18-0126 | 8/30/2018 | Mutagenicity study of Tipaque Black SG-101 with the bacterial reverse mutation assay (OECD 471), Skin Sensitization test of Calcium manganese titanium oxide in CBA/J mice (OECD 442B), Acute Oral Dose Toxicity Study of Calcium manganese titanium oxide in Sprague-Dawley Rats (Acute Toxic Class Method) (OECD 423), Acute Skin Irritation/Corrosion Study of Calcium manganese titanium oxide in New Zealand White Rabbits (OECD 404), Acute Eye Irritation/Corrosion Study of Calcium manganese titanium oxide in New Zealand White Rabbits (OECD 405) | (S) calcium manganese titanium oxide.
P-18-0127 | 8/31/2018 | Fresh Water Algal Growth Inhibition Test with daikon ether (OECD 201), Acute Toxicity Study in Daphnia magna with daikon ether (Static) (OECD 202), Acute Toxicity Test of Daikon Ether with Rare Minnow (Gobiocypris rarus), Ready Biodegradability: Manometric Respirometry Test of daikon ether | (S) heptane, 2-methoxy-2-methyl-.
SN-15-0009 | 8/31/2018 | 28-Day Repeated Dose Oral (Gavage) Toxicity Study in the Rat (OECD 407), Acute Dermal Toxicity (Limit Test) in the Rat (OECD 402), Reverse Mutation Assay `Ames Test' using Salmonella typhimurium and Escherichia coli (OECD 471), The Bovine Corneal Opacity and Permeability (BCOP) Assay (OECD 437), Determination of Skin Irritation Potential Using the EPISKIN™ Reconstructed Human Epidermis Model (OECD 439), Local Lymph Node Assay in the Mouse (OECD 429), Micronucleus Test in the Mouse (OECD 474) | (G) fatty Acid amide.

Table IV. Correction to Previous FR Reports

In Table IV. of this unit, EPA is correcting previously published document that inadvertently included or omitted the following information:

1. October 2016: EPA has not received a NOC for P-16-0001. After reviewing our records, the Agency determined that this error was created due to an erroneous case number entry on the NOC form received by EPA for a different PMN. EPA has now corrected that error.

2. May 2018: NOC Amendment

Case No. | Received date | Commencement date | If amendment, type of amendment | Chemical substance
P-13-0193A | 5/8/2018 | 4/16/2014 | Chemical CBI claim withdrawn | (S) Poly[oxy(methyl-1,2-ethanediyl)], .alpha.-hydro-.omega.-[2-[[2,2-dimethyl-3-(4-morpholinyl)propylidene]amino]methylethoxy]-, ether with 2-ethyl-2-(hydroxymethyl)-1,3-propanediol (3:1).

3. July 2018: NOC Amendments

Case No. | Received date | Commencement date | If amendment, type of amendment | Chemical substance
P-13-0253A | 7/20/2018 | 5/18/2018 | Revised generic name | (G) Alkoxy substituted carbopolycyclemethyl.
P-13-0253A | 7/11/2018 | 5/18/2018 | Revised generic name | (G) 3,4-bis(alkoxy)-4-(carbopolycyclemethyl)-.
P-13-0878A | 7/19/2018 | 5/9/2018 | Revised generic name and corrected typos in the chemical name. | (G) 2-propenoic acid, reaction products with tris (2-hydroxyethyl) isocyanurate.
P-14-0314A | 7/13/2018 | 4/6/2018 | Revised generic name | (G) Poly oxy aliphatic halogenated phosphate.
P-14-0471A | 7/19/2018 | 5/9/2018 | Revised generic name | (G) Hexanedioic acid, polymer with 2-(chloromethyl) oxirane polymer with isocyanato acrylate blocked, cmpds with triethylamine.
P-16-0588A | 7/17/2018 | 5/13/2018 | Revised chemical name. | (G) Alkyl methacrylate, polymer with alkyl acrylate and polyesters.
P-17-0343A | 7/19/2018 | 4/9/2018 | Revised chemical name. | (G) Heteropolycyclic-alkanol, carbomonocycle-alkanesulfonate.

If you are interested in information that is not included in these tables, you may contact EPA's technical information contact or general information contact as described under FOR FURTHER INFORMATION CONTACT to access additional non-CBI information that may be available.

Authority: 15 U.S.C. 2601 et seq.

Dated: February 21, 2019.
Megan Carroll,
Acting Director, Information Management Division, Office of Pollution Prevention and Toxics.

[FR Doc. 2019-04462 Filed 3-11-19; 8:45 am]

BILLING CODE 6560-50-P